DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Pacific Islands Region Permit Family of Forms.

OMB Control Number: 0648-0490.

Form Number(s): NA.

Type of Request: Regular submission (revision and extension of a current information collection).

Number of Respondents: 167.

Average Hours Per Response: Western Pacific permits, 30 minutes; American Samoa limited access permits, 45 minutes; appeals, 2 hours.

Burden Hours: 124.

Needs and Uses: The National Marine Fisheries Service (NMFS) Pacific Islands Region (PIR) manages the United States (U.S.) Fisheries of the Exclusive Economic Zone (EEZ) in the western Pacific under five fishery management plans (FMP), prepared by the Western Pacific Fishery Management Council (Council) pursuant to the Magnuson-Stevens Fishery Conservation and Management Act (MSA). The regulations implementing the FMP are found at 50 CFR part 665.

The permitting requirements at 50 CFR part 665 form the basis for this collection of information. PIR requests information from participants in the fisheries and interested persons. This information is needed for permit issuance, to identify participants in the fisheries, and to help measure impacts of management controls on the participants in the fisheries of the EEZ in the western Pacific.

The revision involves the elimination of Hawaii longline shallow-set certificate requests and northwest Hawaiian islands bottomfish limited entry permits due to regulatory changes, and moving western Pacific crustacean permit applications to another information collection.

Affected Public: Business or other for-profit organizations.

Frequency: Annually.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: October 12, 2011.
Gwellnar Banks,
Management Analyst, Office of the Chief Information Officer.

[FR Doc. 2011-26841 Filed 10-17-11; 8:45 m]

BILLING CODE 3510-22-P